DEPARTMENT OF HEALTH AND HUMAN SERVICES

Centers for Disease Control and Prevention

[30Day-06-05CM]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

2006 Hispanic/Latino Adult Tobacco Survey (ATS)—new—National Center for Chronic Disease Prevention and Health Promotion (NCCDPHP), Centers for Disease Control and Prevention (CDC).

Background and Brief Description

The purpose of this project is to conduct a culturally appropriate Adult Tobacco Survey questionnaire with Hispanic/Latino persons. The survey results will expand data and existing knowledge of tobacco use among Hispanics/Latinos in order to benefit tobacco use surveillance and prevention programming at the local, state, and regional levels. The questions will help to narrow existing gaps in knowledge concerning tobacco use in the Hispanic/Latino population and inform development of Hispanic/Latino-specific interventions.

The Hispanic/Latino population is fast growing in the United States. It is expected that the number of Hispanic/Latino persons residing in the U.S. will increase from 39.9 million in the year 2003 to 102.6 million in the year 2050, almost 3 times the current population. The large expected growth in the Hispanic/Latino population, especially in non-traditional states, will have important implications for tobacco control activities in the years to come.

The Office of Smoking and Health (OSH) is conducting a survey project that includes administering the Adult Tobacco Survey in three locations that have high concentrations of Hispanic/Latino persons, each location with a distinct Hispanic/Latino subpopulation. The locations are New York City (New York), Miami (Florida), and El Paso (Texas). Within each location, the survey will be conducted annually with approximately 750 participants, for a total of 2,250 survey participants. In order to select survey respondents, screeners will be administered to a larger number of household respondents. The estimated number of screener respondents depends on whether the screener is done over the telephone (New York and Florida) or in person (Texas). The screener and the survey will be conducted in both English and Spanish.

There are no costs to the respondents other than their time. The total estimated annualized burden hours are 1,833.

Estimated Annualized Burden
Respondents | Number of respondents | Number of responses per respondent | Average burden per response (in hours)
New York—screener | 1,500 | 1 | 10/60
New York—survey | 750 | 1 | 30/60
Miami, Fl—screener | 1,500 | 1 | 10/60
Miami, Fl—survey | 750 | 1 | 30/60
El Paso, TX—screener | 1,250 | 1 | 10/60
El Paso, TX—survey | 750 | 1 | 30/60

Dated: March 22, 2006.
Joan F. Karr,
Acting Reports Clearance Officer, Centers for Disease Control and Prevention.

[FR Doc. E6-6797 Filed 5-4-06; 8:45 am]

BILLING CODE 4163-18-P